DEPARTMENT OF HOMELAND SECURITY

Federal Emergency Management Agency

44 CFR Part 67

[Docket No. FEMA-D-7590]

Proposed Flood Elevation Determinations

AGENCY: Federal Emergency Management Agency (FEMA), Emergency Preparedness and Response Directorate, Department of Homeland Security.

ACTION: Proposed rule.

SUMMARY: Technical information or comments are requested on the proposed Base (1% annual chance) Flood Elevations (BFEs) and proposed BFE modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Emergency Preparedness and Response Directorate, FEMA, 500 C Street, SW., Washington, DC 20472, (202) 646-2903.

SUPPLEMENTARY INFORMATION: FEMA proposes to make determinations of BFEs and modified BFEs for each community listed below, in accordance with Section 110 of the Flood Disaster Protection Act of 1973, 42 U.S.C. 4104, and 44 CFR 67.4(a).

These proposed base flood and modified BFEs, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. The Mitigation Division Director of the Emergency Preparedness and Response Directorate certifies that this proposed rule is exempt from the requirements of the Regulatory Flexibility Act because proposed or modified BFEs are required by the Flood Disaster Protection Act of 1973, 42 U.S.C. 4105, and are required to establish and maintain community eligibility in the NFIP. As a result, a regulatory flexibility analysis has not been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, flood insurance, reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding | Location | #Depth in feet above ground. *Elevation in feet (NGVD) • Elevation in feet (NAVD): Existing | #Depth in feet above ground. *Elevation in feet (NGVD) • Elevation in feet (NAVD): Modified | Communities affected
KENTUCKY
Boyd County
Ohio River | Approximately 0.8 mile upstream of the downstream county boundary | *547 | *546 | City of Ashland, City of Catlettsburg, Body County (Unincorporated Areas)
| At upstream county boundary | *550 | *549 |
Keys Creek | From the confluence with Ohio River | *550 | *549 | City of Ashland, Boyd County (Unincorporated Areas)
| Just upstream of Catlett Creek Road | *550 | *549 |
City of Ashland
Maps available for inspection at the Ashland Department of Planning and Community Development, 1700 Greenup Avenue, Room 208, Ashland, Kentucky.
Send comments to The Honorable Stephen E. Gilmore, Mayor of the City of Ashland, P.O. Box 1839, Ashland, Kentucky 41105-1839.
City of Catlettsburg
Maps available for inspection at the Catlettsburg City Hall, 216 26th Street, Catlettsburg, Kentucky.
Send comments to The Honorable Roger M. Hensley, Mayor of the City of Catlettsburg, P.O. Box 533, Catlettsburg, Kentucky 41129.
Boyd County (Unincorporated Areas)
Maps available for inspection at the Boyd County Courthouse, 2800 Louisa Street, Catlettsburg, Kentucky.
Send comments to The Honorable Bill F. Scott, Boyd County Judge Executive, Boyd County Courthouse, P.O. Box 423, Catlettsburg, Kentucky 41129.
KENTUCKY
Bracken County
Ohio River | At the downstream County boundary | None | *506 | City of Augusta, Bracken County
| Approximately 125 feet upstream of the upstream County boundary | None | *512 | (Unincorporated Areas)
Bracken Creek | At the confluence with the Ohio River | None | *510 | Bracken County (Unincorporated Areas)
| Approximately 1,100 feet upstream of State Route 8 | None | *510 |
City of Augusta
Maps available for inspection at the Augusta City Office, 219 Main Street, Augusta, Kentucky.
Send comments to The Honorable John Laycock, Mayor of the City of Augusta, P.O. Box 85, Augusta, Kentucky 41002.
Bracken County (Unincorporated Areas)
Maps available for inspection at the Bracken County Courthouse, 116 West Miami, Brooksville, Kentucky.
Send comments to The Honorable Leslie Newman, Bracken County Judge Executive, P.O. Box 264, Brooksville, Kentucky 41004.
KENTUCKY
Campbell County
Ohio River | Approximately 4.1 miles upstream of Louisville and Nashville Railroad Bridge | None | *501 | Cities of California, Fort Thomas, Melbourne, Mentor and Silver Grove, and Campbell County (Unincorporated Areas)
| At upstream County boundary | *507 | *506 |
Mook Road Tributary | Approximately 100 feet upstream of Bentwood Hills Drive | None | *502 | City of Southgate
| Approximately 2,050 feet upstream of Bentwood Hills Drive | None | *521 |
Four Mile Creek | Approximately 900 feet upstream of the confluence of Owl Creek | *502 | *503 | City of Melbourne
| Approximately 0.6 mile upstream of the confluence of Owl Creek | *502 | *503 |
Woodlawn Creek | Approximately 325 feet downstream of the confluence of Woodlawn Creek Tributary 2 | None | *517 | City of Woodlawn
| Approximately 450 feet upstream of Wilson Road | None | *518 |
Woodlawn Creek Tributary 2 | Approximately 225 feet upstream of the confluence with Woodlawn Creek | None | *517 | City of Woodlawn
| Approximately 340 feet downstream of Grand Avenue | None | *517 |
City of California
Maps available for inspection at the California City Clerk's Office, 45 Madison Street, California, Kentucky.
Send comments to The Honorable Frank Smith, Mayor of the City of California, P.O. Box 25, California, Kentucky 41007.
Campbell County (Unincorporated Areas)
Maps available for inspection at the Campbell County Fiscal Court, Planning and Zoning Department, 24 West Fourth Street, Newport, Kentucky.
Send comments to The Honorable Steve Pendry, Campbell County Judge/Executive, 24 West Fourth Street, Newport, Kentucky 41071.
City of Fort Thomas
Maps available for inspection at the Fort Thomas City Office, 130 North Fort Thomas Avenue, Fort Thomas, Kentucky.
Send comments to The Honorable Mary Brown, Mayor of the City of Fort Thomas, 130 North Fort Thomas Avenue, Fort Thomas, Kentucky 41075.
City of Melbourne
Maps available for inspection at the Melbourne City Hall, 502 Garfield Avenue, Melbourne, Kentucky.
Send comments to The Honorable Helen Lutz, Mayor of the City of Melbourne, P.O. Box 63, Melbourne, Kentucky 41059.
City of Mentor
Maps available for inspection at the Campbell County Fiscal Court, Planning and Zoning Department, 24 West Fourth Street, Newport, Kentucky.
Send comments to The Honorable Dave Gearding, Mayor of the City of Mentor, Box 4870, California, Kentucky 41007.
City of Silver Grove
Maps available for inspection at the Silver Grove City Hall, 308 Oak Street, Silver Grove, Kentucky.
Send comments to The Honorable Carl J. Schwarber, Mayor of the City of Silver Grove, P.O. Box 417, Silver Grove, Kentucky 41085.
City of Southgate
Maps available for inspection at the Southgate City Hall, 122 Electric Avenue, Southgate, Kentucky.
Send comments to The Honorable Charles Melville, Mayor of the City of Southgate, 122 Electric Avenue, Southgate, Kentucky 41071.
City of Woodlawn
Maps available for inspection at the Campbell County Fiscal Court, Planning and Zoning Department, 24 West Fourth Street, Newport, Kentucky.
Send comments to The Honorable Ron Barth, Mayor of the City of Woodlawn, 1110 Waterworks Avenue, Woodlawn, Kentucky 41071.
KENTUCKY
Greenup County
Ohio River | Approximately 1.2 miles upstream of downstream County boundary | *535 | *536 | Cities of Greenup, Russell, Worthington, Wurtland, and Greenup County (Unincorporated Areas)
| At upstream County boundary | *547 | *546 |
Lower White Oak Creek | At the confluence with Tygarts Creek | *536 | *537 | Greenup County (Unincorporated Areas)
| Approximately 1,660 feet upstream of State Highway 1134 | *536 | *537 |
White Oak Creek | Approximately 325 feet downstream of U.S. Highway 23 | *547 | *546 | Cities of Bellefonte and Russell
| Approximately 330 feet downstream of State Route 693 | *547 | *546 |
Tygarts Creek | Entire length within community | *536 | *537 | Greenup County (Unincorporated Areas)
City of Bellefonte
Maps available for inspection at the Bellefonte City Hall, 705 Bellefonte Princess Road, Ashland, Kentucky.
Send comments to The Honorable Tom Bradley, Mayor of the City of Bellefonte, 705 Bellefonte Princess Road, Ashland, Kentucky 41101-2183.
Greenup County (Unincorporated Areas)
Maps available for inspection at the Greenup County Courthouse, Room 102, Greenup, Kentucky.
Send comments to The Honorable Bobby W. Carpenter, Greenup County Judge Executive, Greenup County Courthouse, Room 102 Box 2, Greenup, Kentucky 41144.
City of Greenup
Maps available for inspection at the Greenup City Hall, 1005 Walnut Street, Greenup, Kentucky.
Send comments to The Honorable Charles Veach, Mayor of the City of Greenup, 1005 Walnut Street, Greenup, Kentucky 41144.
City of Russell
Maps available for inspection at the Russell City Hall, 410 Ferry Street, Russell, Kentucky.
Send comments to The Honorable Donald G. Fraley, Mayor of the City of Russell, P.O. Box 394, Russell, Kentucky 41169.
City of Worthington
Maps available for inspection at the Worthington City Hall, 512 Ferry Street, Worthington, Kentucky.
Send comments to The Honorable Jerry Epling, Mayor of the City of Worthington, P.O. Box 366, Worthington, Kentucky 41183.
City of Wurtland
Maps available for inspection at the Wurtland City Hall, 500 Wurtland Avenue, Wurtland, Kentucky.
Send comments to The Honorable Donna K. Hayes, Mayor of the City of Wurtland, 500 Wurtland Avenue, Wurtland, Kentucky 41144.
KENTUCKY
Lewis County
Ohio River | Approximately 0.5 mile upstream of the County boundary | *518 | *519 | Town of Concord, City of Vanceburg, Lewis County (Unincorporated Areas)
| Approximately 4.7 miles downstream of the County boundary | *533 | *534 |
Kinniconick Creek | Approximately .07 mile downstream of McDowell Creek Road | None | *533 | Lewis County (Unincorporated Areas)
| Approximately 8 miles upstream of State Route 59 | None | *678 |
Town of Concord
Maps available for inspection at the Concord Town Hall, Route 2, Vanceburg, Kentucky.
Send comments to The Honorable Lovell Polley, Mayor of the Town of Concord, Route 2, Box 510, Vanceburg, Kentucky 41179.
Lewis County (Unincorporated Areas)
Maps available for inspection at the Lewis County Courthouse, 514 Second Street, Vanceburg, Kentucky.
Send comments to The Honorable Steve Applegate, Lewis County Judge Executive, Lewis County Courthouse, 514 Second Street, Room 201, Vanceburg, Kentucky 41179.
City of Vanceburg
Maps available for inspection at the Vanceburg City Hall, 615 2nd Street, Vanceburg, Kentucky.
Send comments to The Honorable William T. Cooper, Mayor of the City of Vanceburg, 615 2nd Street, Vanceburg, Kentucky 41179.
KENTUCKY
Magoffin County
Licking River | Approximately 0.5 mile downstream of State Route 30 | *849 | *848 | City of Salyersville, Magoffin County (Unincorporated Areas)
| Approximately 0.2 mile downstream of Combs Mountain Parkway | *861 | *860 |
Burning Fork | At the confluence with Licking River | *857 | *853 | City of Salyersville, Magoffin County (Unincorporated Areas)
| Approximately 0.1 mile upstream of Lick Branch Road | *864 | *863 |
State Road Fork | At the confluence with Licking River | *856 | *853 | City of Salyersville, Magoffin County (Unincorporated Areas)
| Approximately 1.7 miles upstream of State Route 2020 | *885 | *886 |
Route 7 Cut-Thru | At the confluence with Licking River | *852 | *850 | City of Salyersville, Magoffin County (Unincorporated Areas)
| At the divergence from Licking River | *858 | *857 |
Route 30 Cut-Thru | At the upstream side of State Route 30 | None | *848 | Magoffin County (Unincorporated Areas)
| At the divergence from Licking River | *851 | *849 |
Mash Fork | Approximately 0.36 mile upstream of the confluence with State Road Fork | *861 | *860 | Magoffin County (Unincorporated Areas)
| Approximately 0.56 mile upstream of the confluence with State Road Fork | *865 | *864 |
Magoffin County (Unincorporated Areas)
Maps available for inspection at Magoffin County Courthouse, Judge's Office, 457 Parkway Drive, Salyersville, Kentucky.
Send comments to The Honorable Bill W. May, Magoffin County Judge Executive, Magoffin County Courthouse, P.O. Box 430, Salyersville, Kentucky 41465.
City of Salyersville
Maps available for inspection at the Salyersville City Hall, 315 East Maple Street, Salyersville, Kentucky.
Send comments to The Honorable Stanley Howard, Mayor of the City of Salyersville, P.O. Box 640, Salyersville, Kentucky 41465.
KENTUCKY
Mason County
Ohio River | Approximately 0.28 mile downstream of the downstream county boundary | None | *512 | City of Dover, City of Maysville, Mason County (Unincorporated Areas)
| Approximately 0.04 mile upstream of the upstream county boundary | None | *518 |
City of Dover
Maps available for inspection at the Dover City Hall, 2060 Lucretia Street, Dover, Kentucky.
Send comments to The Honorable Eddie Sidell, Mayor of the City of Dover, P.O. Box 149, Dover, Kentucky 41034.
Mason County (Unincorporated Areas)
Maps available for inspection at the Mason County Judge/Executive's Office, 219 Court Street, Maysville, Kentucky.
Send comments to The Honorable James L. Gallenstein, Mason County Judge Executive, 221 Stanley Reed Court Street, Maysville, Kentucky 41056.
City of Maysville
Maps available for inspection at the Maysville City Hall, 216 Bridge Street, Maysville, Kentucky.
Send comments to The Honorable David Cartmell, Mayor of the City of Maysville, 216 Bridge Street, Maysville, Kentucky 41056.

(Catalog of Federal Domestic Assistance No. 83.100, “Flood Insurance.”)
Dated: April 19, 2004.
Anthony S. Lowe,
Mitigation Division Director, Emergency Preparedness and Response Directorate.

[FR Doc. 04-9218 Filed 4-22-04; 8:45 am]

BILLING CODE 9110-12-P